ENVIRONMENTAL PROTECTION AGENCY

[EPA-HQ-OPP-2017-0350; FRL-9975-55]

Pesticide Maintenance Fee: Product Cancellation Order for Certain Pesticide Registrations

AGENCY: Environmental Protection Agency (EPA).

ACTION: Notice.

SUMMARY: This notice announces EPA's order for the cancellations, voluntarily requested by the registrants and accepted by the Agency, of the products listed in Table 1 of Unit III., pursuant to the Federal Insecticide, Fungicide, and Rodenticide Act (FIFRA).

DATES: The cancellations are effective April 13, 2018.

FOR FURTHER INFORMATION CONTACT: Michael Yanchulis, Information Technology and Resources Management Division (7502P), Office of Pesticide Programs, Environmental Protection Agency, 1200 Pennsylvania Ave. NW, Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2017-0350, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

This cancellation order follows an August 3, 2017 Federal Register Notice of Receipt of Requests from the registrants listed in Table 2 of Unit III. to voluntarily cancel these product registrations. In the August 3, 2017 notice, EPA indicated that it would issue an order implementing the cancellations, unless the Agency received substantive comments within the 180-day comment period that would merit its further review of these requests, or unless the registrants withdrew their requests. The Agency received six general comments on the August 3, 2017 notice but none merited its further review. The registration numbers below were listed in the August 3, 2017 notice but already have been canceled by other Federal Register notices so are not listed in this notice. The products are listed by their cancellation Federal Register notice: (1) Federal Register of November 10, 2010 (75 FR 69065; FRL-8852-4) with cancellation effective July 31, 2016: 66222-62, 66222-63, ID 980003 and WA 980012; and (2) Federal Register of August 29, 2017 (82 FR 41017; FRL-9964-27): 498-180. Accordingly, EPA hereby issues in this notice a cancellation order granting the requested cancellations. Any distribution, sale, or use of the products subject to this cancellation order is permitted only in accordance with the terms of this order, including any existing stocks provisions.

Section 4(i)(5) of FIFRA (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2017, maintenance fees were collected in one billing cycle. In late October of 2016, all holders of either FIFRA section 3 registrations or FIFRA section 24(c) registrations were sent lists of their active registrations, along with forms and instructions for responding. They were asked to identify which of their registrations they wished to maintain in effect, and to calculate and remit the appropriate maintenance fees. Most responses were received by the statutory deadline of January 15, 2017. A notice of intent to cancel was sent in April of 2017 to companies who did not respond and to companies who responded, but paid for less than all of their registrations. Since mailing the notices of intent to cancel, EPA has maintained a toll-free inquiry number through which the questions of affected registrants have been answered.

In fiscal year 2017, the Agency has waived the fee for 338 minor agricultural use registrations at the request of the registrants. Maintenance fees have been paid for about 16,136 FIFRA section 3 registrations, or about 97% of the registrations on file in October 2016. Fees have been paid for about 1,859 FIFRA section 24(c) registrations, or about 87% of the total on file in October 2016. Cancellations for non-payment of the maintenance fee affect about 166 FIFRA section 3 registrations and about 13 FIFRA section 24(c) registrations. These cancellations can be found in Table 3 of Unit III. Cancellations for companies paying the fee at one of the capped payment amounts are considered voluntary cancellations since the registration could be maintained without an additional fee payment. These cancellations are subject to a 180-day comment period and are listed in Table 1of Unit III.

The cancellation orders generally permit registrants to continue to sell and distribute existing stocks of the canceled products until January 15, 2018, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. What action is the Agency taking?

This notice announces the cancellation, as requested by registrant, of products registered under FIFRA section 3 (7 U.S.C. 136a). These registrations are listed in sequence by registration number in Table 1 of this unit.

Table 1—Product Cancellations
Registration No. | Company No. | Product name | Chemical name
100-598 | 100 | Profenofos Technical | Profenofos.
100-669 | 100 | Curacron 8E Insecticide-Miticide | Profenofos.
100-1411 | 100 | Enfold Insecticide | Emamectin benzoate.
264-956 | 264 | Gustafson Allegiance-LS Fungicide | Metalaxyl.
264-967 | 264 | Raxil Allegiance MD Fungicide | Metalaxyl, Tebuconazole.
264-993 | 264 | Secure Dry Insecticide | Spinosad.
264-994 | 264 | Secure II Liquid Stored Grain Insecticide | Spinosad.
264-1073 | 264 | Puma Ultra Herbicide | Fenoxaprop-p-ethyl.
264-1132 | 264 | Poncho/GB126 | Clothianidin; Bacillus firmus strain I-1582.
264-1176 | 264 | Melocon WP | Purpureocillium lilacinum strain 251.
432-757 | 432 | Tribute II XL Termiticide/insecticide Concentrate | Esfenvalerate.
432-814 | 432 | Deltamethrin 25 SC Concentrate | Deltamethrin.
432-823 | 432 | Delta 920 Dust Insecticide | Deltamethrin.
432-824 | 432 | Delta Granular | Deltamethrin.
432-897 | 432 | Aliette HG Brand Fungicide | Fosetyl-Al.
432-1252 | 432 | Maxforce Professional Insect Control Ant Killer Bait Stations | Hydramethylnon.
432-1253 | 432 | Maxforce Roach Control System Formula 18493 | Hydramethylnon.
432-1260 | 432 | Maxforce Ant Bait F3 | Fipronil.
432-1263 | 432 | Maxforce Ant Bait F2 | Fipronil.
432-1265 | 432 | Maxforce IBH11 | Hydramethylnon.
432-1301 | 432 | Tempo 20 WP in Water Soluble Packets | Cyfluthrin.
432-1303 | 432 | Tempo 1 Insecticide | beta-Cyfluthrin.
432-1305 | 432 | Tempo 10 WP in Packets | beta-Cyfluthrin.
432-1306 | 432 | Tempo 20 WP Insecticide in Water Soluble Packets | Cyfluthrin.
432-1313 | 432 | Tempo 2 TC Insecticide | Cyfluthrin.
432-1315 | 432 | Tempo 0.1% Dust Insecticide | Cyfluthrin.
432-1357 | 432 | Tempo Ultra 40 Insecticide | beta-Cyfluthrin.
432-1368 | 432 | Premise Gel Insecticide | Imidacloprid.
464-99 | 464 | Chlorine | Chlorine.
464-8131 | 464 | Aqucar Sump Buddy Pro Water Treatment Microbiocide | 2,2-Dibromo-3-nitrilopropionamide.
498-187 | 498 | Champion Sprayon Ant & Roach Killer 4 | Piperonyl butoxide; Permethrin; Tetramethrin.
524-610 | 524 | M1750 Herbicide | Glyphosate ethanolamine salt; Dicamba, diglycolamine salt.
777-105 | 777 | Lysol Brand IV I.C. Disinfectant | Quaternary ammonium compounds; Ethanol.
961-352 | 961 | Lebanon Fertilizer with Surflan | Oryzalin.
961-364 | 961 | Lebanon Fertilizer with Barricade Preemergence Weed Control (0.22%) | Prodiamine.
961-369 | 961 | Lebanon Fertilizer with Dimension (0.072%) Crabgrass Control | Dithiopyr.
1001-82 | 1001 | Bounty Turf and Ornamental Insecticide | Imidacloprid.
1001-83 | 1001 | Minx Ornamental Miticide/insecticide | Abamectin.
1812-338 | 1812 | Kocide LF | Copper hydroxide.
3432-25 | 3432 | Pool Protector Brand Pool Algaecide & Sanitizer | Quaternary ammonium compounds.
4787-33 | 4787 | Cheminova Methyl Parathion Technical | Methyl parathion.
4822-479 | 4822 | Raid Ant & Roach Killer 479 | Piperonyl butoxide; Permethrin; o-Phenylphenol; Pyrethrins.
4822-547 | 4822 | Deedee 1 | Quaternary ammonium compounds.
5383-108 | 5383 | Polyphase 662 | Carbendazim; Carbamic acid, butyl-, 3-iodo-2-propynyl ester; 1,3,5-Triazine-2,4-diamine, N-cyclopropyl-N′-(1,1-dimethylethyl)-6-(methylthio)-.
5383-161 | 5383 | Z-9 Tricosene Technical | cis-9-Tricosene.
5383-162 | 5383 | Trimedlure | 4(or 5)-Chloro-2-methylcyclohexanecarboxylic acid, 1,1-dimethylethyl ester.
5383-163 | 5383 | Disparlure Racemic | cis-7,8-Epoxy-2-methyloctadecane.
5383-168 | 5383 | Fungitrol 1075 | 1,3,5-Triazine-2,4-diamine, N-cyclopropyl-N′-(1,1-dimethylethyl)-6-(methylthio)-.
5383-173 | 5383 | Fungitrol 11-50S Fungicide | Folpet.
5383-179 | 5383 | Nuosept W | Bronopol; 5-Chloro-2-methyl-3(2H)-isothiazolone; 2-Methyl-3(2H)-isothiazolone.
5383-180 | 5383 | Nuosept W Concentrate | Bronopol; 5-Chloro-2-methyl-3(2H)-isothiazolone; 2-Methyl-3(2H)-isothiazolone.
5383-185 | 5383 | Nuosept BT10 | 1,2-Benzisothiazolin-3-one.
5383-186 | 5383 | Nuosept BMC 412 | 1,2-Benzisothiazolin-3-one; 2-Methyl-3(2H)-isothiazolone; 5-Chloro-2-methyl-3(2H)-isothiazolone.
5813-47 | 5813 | Bowl Gard Automatic Bowl Cleaner | Calcium hypochlorite.
5813-48 | 5813 | Bowl Gard II Automatic Toilet Bowl Cleaner | Calcium hypochlorite.
5813-71 | 5813 | Ultra Clorox Bleach Formula C | Sodium hypochlorite.
5813-72 | 5813 | Ultra Clorox Bleach Formula G | Sodium hypochlorite.
10088-109 | 10088 | Permicide 9% Concentrate | Permethrin.
10163-46 | 10163 | Prokil Naled Insecticide | Naled.
10163-56 | 10163 | Gowan Dimethoate E267 | Dimethoate.
10163-76 | 10163 | Gowan Wettable Sulfur | Sulfur.
10163-77 | 10163 | Gowan Dusting Sulfur | Sulfur.
10163-120 | 10163 | Gowan Trifluralin 10G | Trifluralin.
10163-141 | 10163 | Sulfur Base (for Manufacturing Use) | Sulfur.
10163-205 | 10163 | Handy Spray Betasan Crabgrass Preventer | Bensulide.
10163-249 | 10163 | Thiophanate Methyl 80 WDG | Thiophanate-methyl.
10163-262 | 10163 | Thiophanate Methyl 70-W Agricultural Fungicide | Thiophanate-methyl.
47371-158 | 47371 | PVP Iodine Solution FE—150 | Betadine.
59639-100 | 59639 | Resource 80 WP Herbicide | Flumiclorac.
59639-122 | 59639 | V-10097 Herbicide | Glyphosate-isopropylammonium; Flumiclorac.
60063-37 | 60063 | Echo 6F ETQ | Chlorothalonil.
60063-54 | 60063 | Flud-E 1SC Turf Fungicide | Fludioxonil.
66222-3 | 66222 | Pyrinex 4 EC | Chlorpyrifos.
66222-15 | 66222 | Prometryn 4L Herbicide | Prometryn.
66222-18 | 66222 | Chlorpyrifos 15G | Chlorpyrifos.
66222-38 | 66222 | Sonora 4SC | Prometon.
66222-39 | 66222 | Pramitol 4RR | Prometon.
66222-43 | 66222 | Pramitol 4 MUP | Prometon.
66222-49 | 66222 | Valuron 60 DF Herbicide | Metsulfuron.
66222-50 | 66222 | Metsulfuron Methyl 60DF Herbicide | Metsulfuron.
66222-55 | 66222 | Pramitol 2l-Diuron 2l | Diuron; Prometon.
66222-57 | 66222 | Rimon (Novaluron) 7.5 WDG | Novaluron.
66222-98 | 66222 | Fanfare 2EC-CAL | Bifenthrin.
66222-101 | 66222 | Bifenthrin SC Lawn and Tree Flowable Insecticide/Miticide | Bifenthrin.
66222-102 | 66222 | Bifenthrin SC Flowable Insecticide/Miticide | Bifenthrin.
66222-110 | 66222 | Prodiamine 65 WDG | Prodiamine.
66222-112 | 66222 | Folpan 80 WDG Industrial | Folpet.
66222-116 | 66222 | Cotton-Pro | Prometryn.
66222-122 | 66222 | Acephate 90 SP Cotton Insecticide | Acephate.
66222-142 | 66222 | Diuron MUP | Diuron.
66222-147 | 66222 | Nations AQ II Metsulfuron Methyl DF | Metsulfuron.
66222-148 | 66222 | Nations AQ II Metsulfuron Methyl 60 DF | Metsulfuron.
66222-153 | 66222 | Triclopyr 4 | Triclopyr, butoxyethyl ester.
66222-164 | 66222 | Vegetation Manager Metsulfuron Methyl-Turf Herbicide | Metsulfuron.
66222-165 | 66222 | Vegetation Manager Metsulfuron Methyl DF | Metsulfuron.
66222-166 | 66222 | Imazapyr 2SL | Imazapyr, isopropylamine salt.
66222-167 | 66222 | Imazapyr 4 SL | Imazapyr, isopropylamine salt.
66222-171 | 66222 | Mohave 70 EG Bareground Vegetation Control | Diuron; Imazapyr.
66222-175 | 66222 | Pyrimax 3.2 L Herbicide | Pyrithiobac-sodium.
66222-202 | 66222 | Ironclad Herbicide | Nicosulfuron; Rimsulfuron.
66222-206 | 66222 | Farmsaver.com Metsulfuron Methyl 60 DF | Metsulfuron.
66222-228 | 66222 | Pasada 1.6F | Imidacloprid.
66222-237 | 66222 | Dupont Direx 4L | Diuron.
66222-238 | 66222 | Mana Karmex XP Herbicide | Diuron.
66222-242 | 66222 | Fomesafen 2 SL | Sodium salt of fomesafen.
66222-255 | 66222 | Mana 11415 | Bifenthrin.
66222-259 | 66222 | Mana 24301 | Chlorpyrifos; Bifenthrin.
70627-37 | 70627 | Johnson Wax Professional Cockroach Gel Bait Formula 3 | Abamectin.
70627-38 | 70627 | Johnson Wax Professional Residual Insecticide | Cyfluthrin.
70627-44 | 70627 | Johnson Wax Professional Cockroach Bait Station | Abamectin.
70627-45 | 70627 | Johnson Wax Professional Fire Ant Bait | Abamectin.
70627-46 | 70627 | Johnson Wax Professional Perimeter Spray Microencapsulated Concentrate | Cyfluthrin.
AL070001 | 100 | Reward Landscape and Aquatic Herbicide | Diquat dibromide.
AL110002 | 100 | Heritage Fungicide | Azoxystrobin.
AL120001 | 100 | Avid 0.15 EC Miticide/Insecticide | Abamectin.
AR930001 | 71368 | Weedar 64 Broadleaf Herbicide | 2,4-D, dimethylamine salt.
AZ070011 | 71711 | ET Herbicide/Defoliant | Pyraflufen-ethyl.
AZ120002 | 228 | Nufarm Ethephon 2 Plant Growth Regulator | Ethephon.
CA020005 | 264 | Rovral Brand 4 Flowable Fungicide | Iprodione.
CA040008 | 264 | Rovral 4 Flowable Fungicide | Iprodione.
CA050001 | 264 | Rovral Brand 4 Flowable Fungicide | Iprodione.
CA060020 | 264 | Rovral Brand 4 Flowable Fungicide | Iprodione.
CA140007 | 228 | Nufarm Ethephon 2 Plant Growth Regulator | Ethephon.
CA930015 | 264 | Rovral 4 Flowable Fungicide | Iprodione.
CA970033 | 228 | Riverdale Solution Water Soluble | 2,4-D, dimethylamine salt.
CO150003 | 55146 | Gibgro 4LS | Gibberellic acid.
CO980003 | 5481 | Orthene Turf, Tree & Ornamental Sprayb WSP | Acephate.
FL110011 | 100 | Heritage Fungicide | Azoxystrobin.
FL130004 | 100 | Avid 0.15 EC Miticide/Insecticide | Abamectin.
FL890017 | 5481 | Orthene 75 S Soluble Powder | Acephate.
FL890018 | 5481 | Orthene 75 S Soluble Powder | Acephate.
FL890019 | 5481 | Orthene 75 S Soluble Powder | Acephate.
FL890022 | 5481 | Orthene 75 S Soluble Powder | Acephate.
FL940002 | 5481 | Orthene 75 S Soluble Powder | Acephate.
GA000001 | 59639 | Knack Insect Growth Regulator | Pyriproxyfen.
GA050003 | 100 | Caparol 4l | Prometryn.
GA110001 | 100 | Abound Flowable Fungicide | Azoxystrobin.
GA110005 | 352 | Dupont Coragen Insect Control | Chlorantraniliprole.
GA110007 | 100 | Avid 0.15 EC Miticide/Insecticide | Abamectin.
GA880004 | 5481 | Orthene 75 S Soluble Powder | Acephate.
GA960002 | 5481 | Orthene 75 S Soluble Powder | Acephate.
HI140001 | 61842 | Lime-Sulfur Solution | Lime sulfur.
IN110001 | 100 | Abound Flowable Fungicide | Azoxystrobin.
KY100003 | 100 | Quadris Flowable Fungicide | Azoxystrobin.
LA120019 | 352 | Dupont Leadoff Herbicide | Rimsulfuron; Thifensulfuron.
LA130002 | 100 | Avid 0.15 EC Miticide/Insecticide | Abamectin.
LA930001 | 71368 | Weedar 64 Broadleaf Herbicide | 2,4-D, dimethylamine salt.
LA950001 | 464 | Chlorine | Chlorine.
MA090001 | 100 | Callisto Herbicide | Mesotrione.
MD130005 | 100 | Abound Flowable Fungicide | Azoxystrobin.
ME070002 | 264 | Provado 1.6 Flowable Insecticide | Imidacloprid.
ME090003 | 100 | Callisto Herbicide | Mesotrione.
ME120003 | 228 | Nufarm Ethephon 2 Plant Growth Regulator | Ethephon.
MI140008 | 100 | Switch 62.5WG | Cyprodinil; Fludioxonil.
MI160001 | 100 | Heritage Fungicide | Azoxystrobin.
MN070001 | 55146 | Agritin | Fentin hydroxide.
MN070008 | 55146 | Agri Tin Flowable | Fentin hydroxide.
MO050004 | 100 | Caparol 4L | Prometryn.
MO120002 | 100 | Avid 0.15 EC Miticide/Insecticide | Abamectin.
MO140004 | 100 | Abound Flowable Fungicide | Azoxystrobin.
MS010003 | 71368 | Roundup Herbicide | Glyphosate-isopropylammonium.
MS120013 | 100 | Avid 0.15 EC Miticide/Insecticide | Abamectin.
MS900016 | 71368 | Weedar 64 Broad Leaf Herbicide | 2,4-D, dimethylamine salt.
MS910004 | 228 | Riverdale Weedestroy AM-40 Amine Salt | 2,4-D, dimethylamine salt.
MT060007 | 100 | Touchdown CT Herbicide | Glycine, N-(phosphonomethyl)- potassium salt.
NC110003 | 100 | Quadris Flowable Fungicide | Azoxystrobin.
NC110006 | 100 | Avid 0.15 EC Miticide/Insecticide | Abamectin.
ND030011 | 55146 | Agri Tin Water Soluble Pack | Fentin hydroxide.
ND040007 | 71368 | Nufarm Credit Systemic Extra Herbicide | Glyphosate-isopropylammonium.
ND050001 | 100 | Callisto | Mesotrione.
ND060002 | 524 | RT 3 Herbicide | Glycine, N-(phosphonomethyl)- potassium salt.
ND060003 | 100 | Touchdown CT Herbicide | Glycine, N-(phosphonomethyl)- potassium salt.
NE000002 | 264 | Rovral 4 Flowable Fungicide | Iprodione.
NE150002 | 100 | Heritage Fungicide | Azoxystrobin.
NJ130011 | 100 | Avid 0.15EC Miticide/Insecticide | Abamectin.
NM110003 | 81880 | Sandea Herbicide | Halosulfuron-methyl.
NM130002 | 100 | Avid 0.15 EC Miticide/Insecticide | Abamectin.
NM140003 | 100 | Avid 0.15 EC Miticide/Insecticide | Abamectin.
NV980001 | 100 | Agri-Mek 0.15EC | Abamectin.
OH110004 | 100 | Abound Flowable Fungicide | Azoxystrobin.
OH130003 | 100 | Avid 0.15 EC Miticide/Insecticide | Abamectin.
OK110004 | 100 | Avid 0.15 EC Miticide/Insecticide | Abamectin.
OR010034 | 5481 | Orthene 75 S Soluble Powder | Acephate.
OR010035 | 5481 | Orthene 97 Pellets | Acephate.
OR060019 | 5481 | Orthene 97 | Acephate.
OR940036 | 228 | Riverdale Weedestroy AM 40 Amine Salt | 2,4-D, dimethylamine salt.
PA110001 | 100 | Abound Flowable Fungicide | Azoxystrobin.
PA130004 | 100 | Avid 0.15 EC Miticide/Insecticide | Abamectin.
SC110003 | 100 | Avid 0.15 EC Miticide/Insecticide | Abamectin.
SC120002 | 100 | Abound Flowable Fungicide | Azoxystrobin.
TN080010 | 100 | Aatrex 4L | Atrazine.
TN110001 | 100 | Abound Flowable Fungicide | Azoxystrobin.
TN130003 | 100 | Avid 0.15 EC Miticide/Insecticide | Abamectin.
TX000005 | 5481 | Orthene 97 Pellets | Acephate.
TX110012 | 100 | Avid 0.15 EC Miticide/Insecticide | Abamectin.
TX120004 | 228 | Nufarm Ethephon 2 Plant Growth Regulator | Ethephon.
TX150003 | 100 | Heritage Fungicide | Azoxystrobin.
TX830022 | 5481 | Orthene 75 S Soluble Powder | Acephate.
TX900001 | 5481 | Orthene 75 S Soluble Powder | Acephate.
TX970011 | 5481 | Orthene 90 S | Acephate.
UT000003 | 5481 | Orthene 97 Pellets | Acephate.
VA050003 | 100 | Caparol 4l | Prometryn.
VA110001 | 100 | Abound Flowable Fungicide | Azoxystrobin.
VA130008 | 100 | Avid 0.15 EC Miticide/Insecticide | Abamectin.
VA150002 | 100 | Heritage Fungicide | Azoxystrobin.
WA050014 | 5481 | Orthene 97 | Acephate.
WA070001 | 264 | Rovral 4 Flowable Fungicide | Iprodione.
WA090022 | 5481 | Orthene 97 | Acephate.
WA110001 | 100 | Callisto Herbicide | Mesotrione.
WA120006 | 100 | Switch 62.5WG | Cyprodinil; Fludioxonil.
WA940032 | 228 | Riverdale Weedestroy AM-40 Amine Salt | 2,4-D, dimethylamine salt.
WI010006 | 71368 | Weedar 64 Broadleaf Herbicide | 2,4-D, dimethylamine salt.
WI060002 | 5481 | Orthene 75 S Soluble Powder | Acephate.
WI060003 | 5481 | Orthene 97 | Acephate.
WI950007 | 71368 | Weedar 64 Broadleaf Herbicide | 2,4-D, dimethylamine salt.
WY030004 | 352 | Dupont Asana XL Insecticide | Esfenvalerate.

Table 2 of this unit includes the names and addresses of record for all registrants of the products in Table 1 of this unit, in sequence by EPA company number. This number corresponds to the first part of the EPA registration numbers of the products listed in Table 1 of this unit.

Table 2—Registrants of Canceled Products
EPA company No. | Company name and address
100 | Syngenta Crop Protection, LLC, P.O. Box 18300, Greensboro, NC 27419.
228 | Nufarm Americas, Inc., 4020 Aerial Center Parkway, Suite 101, Morrisville, NC 27560.
264 | Bayer Cropscience LP, P.O. Box 12014, Research Triangle Park, NC 27709.
352 | E. I. Du Pont de Nemours and Company, Chestnut Run Plaza, 974 Centre Road, Wilmington, DE 19805.
432 | Bayer Environmental Science, A Division of Bayer Cropscience LP, P.O. Box 12014, Research Triangle Park, NC 27709.
464 | The Dow Chemical Co., 1501 Larkin Center Drive, 200 Larkin Center, Midland, MI 48674.
498 | Chase Products Co., P.O. Box 70, Maywood, IL 60153.
524 | Monsanto Company, 1300 I Street NW, Suite 450 East, Washington, DC 20005.
777 | Reckitt Benckiser LLC, 399 Interpace Parkway, Parsippany, NY 07054.
961 | Lebanon Seaboard Corporation, 1600 East Cumberland Street, Lebanon, PA 17042.
1001 | Cleary Chemicals, LLC, c/o. Nufarm Americas, Inc., 4020 Aerial Center Parkway, Suite 101, Morrisville, NC 27560.
1812 | Griffin LLC, c/o. DuPont Crop Protection, Stine-Haskell Research Center, P.O. Box 30, Newark, DE 19714.
3432 | N. Jonas & Co., Inc., P.O. Box 425, Bensalem, PA 19020.
4787 | Cheminova A/S, c/o FMC Corporation, 1735 Market Street, Philadelphia, PA 19103.
4822 | S. C. Johnson & Son, Inc., 1525 Howe Street, Racine, WI 53403.
5383 | Troy Chemical Corp., c/o. Troy Corporation, 8 Vreeland Road, Florham Park, NJ 07932.
5481 | Amvac Chemical Corporation, 4695 MacArthur Court, Suite 1200, Newport Beach, CA 92660.
5813 | The Clorox Co., c/o PS&RC, P.O. Box 493, Pleasanton, CA 94566.
10088 | Athea Laboratories Inc., P.O. Box 240014, Milwaukee, WI 53224.
10163 | Gowan Company, P.O. Box 5569, Yuma, AZ 85366.
47371 | H&S Chemicals Division, c/o Lonza Inc., 90 Boroline Road, Allendale, NJ 07401.
55146 | Nufarm Americas, Inc., 4020 Aerial Center Parkway, Suite 101, Morrisville, NC 27560.
59639 | Valent U.S.A. Corporation, 1600 Riviera Avenue, Suite 200, Walnut Creek, CA 94596.
60063 | Sipcam Agro USA, Inc., 2525 Meridian Pkwy., Suite 350, Durham, NC 27713.
61842 | Pyxis Regulatory Consulting, Inc., Agent for Tessenderlo Kerley, Inc., 4110 136th Street CT NW, Gig Harbor, WA 98332.
66222 | Makhteshim Agan of North America, Inc., D/B/A Adama, 3120 Highwoods Blvd., Suite 100, Raleigh, NC 27604.
70627 | Diversey, Inc., P.O. Box 19747, Charlotte, NC 28219.
71368 | Nufarm Americas, Inc., 4020 Aerial Center Parkway, Suite 101, Morrisville, NC 27560.
71711 | Nichino America, Inc., 4550 New Linden Hill Road, Suite 501, Wilmington, DE 19808.
81880 | Canyon Group LLC, c/o Gowan Company, 370 S. Main Street, Yuma, AZ 85364.

Table 3 of this unit lists all of the FIFRA section 3 and section 24(c) registrations which were canceled for non-payment of the 2017 maintenance fee. These registrations have been canceled by order on August 22, 2017 and without hearing.

Table 3—FIFRA Section 3 and Section 24(c) Registrations Cancelled for Non-Payment of 2017 Maintenance Fee
Registration No. | Product name
278-43 | Sanygen Liquid Shock.
706-69 | Claire Disinfectant Spray.
784-96 | Whirl-Clean.
1020-4 | Oakite Chlor-Tergent.
1072-11 | K.O. Dyne.
1072-19 | Babsyne-20.
2212-17 | Legphene.
2230-20001 | Sodium Hypochlorite Solution.
2296-101 | Easy-Dab Bacteriostatic Creme Cleanser.
2382-122 | Yard Spray Concentrate.
3377-27 | M-B-R 98 Technical.
3377-61 | Albrom 100PC Disinfectant.
3377-62 | Xtrabrom 111 Biocide.
3377-72 | Albrom 100T Disinfectant.
6390-25 | Vikol THP.
6552-17 | Kay Dee Royal Rabon Block 4 with Rabon Oral Larvicide.
6718-25 | Pursue Toilet Bowl Cleaner.
6959-92 | Cessco Fire Ant Killer.
7152-33 | Sparkling Water-Simply & Easily Superstick 8.
7152-34 | Mini-Tabs.
7152-39 | Slo-Tab 8.
7152-88 | Seaboard Liquid Shock.
7313-22 | Sigmaplane Ecol HS Antifouling Redbrown 5297 HS-RD.
7754-51 | ARI Yard & Patio Formula 1.
8186-19 | C-Flex 40.
8405-3 | FS-102 Sanitizer & Udderwash.
8405-22 | WC-20.
8536-5 | Pic-Brom 33.
8536-6 | Pic-Brom 55.
8536-7 | Pic-Brom 43.
8536-9 | Pic-Brom 50.
8536-19 | Methyl Bromide 98%.
8622-77 | Bromoblend 99.
8622-80 | Biobrom AS.
8622-87 | Sodiumbrom IWT Shock.
9198-212 | Ole 75% Fungicide.
9198-230 | Andersons Golf Products Kansel + Fertilizer.
11220-7 | Tri-Con 67/33.
11220-8 | Tri-Con 75/25.
11220-17 | Methyl Bromide 89.5%.
11411-9 | Leslie's Power Powder.
11411-10 | Leslie's Chlorinating Liquid.
11678-5 | Thionex Endosulfan Technical.
11694-112 | Sun Skeeter.
13283-19 | Rainbow Weed Killer 4031.
13283-21 | Rainbow Weed Killer 4049.
21268-19 | Blue Shield Black Algae Eliminator.
21268-20 | Blue Shield Liquid-Chlor.
21268-21 | Blue Shield Shock Treatment.
32240-6 | Crop Cure 2.
34052-9 | Enforcer.
37589-5 | Mariner Renaturalizer Water Unit.
39096-2 | Fintrol Fish Toxicant Kit.
39444-12 | Virustat Microbial Water Purification Cartridge.
42177-74 | E-Z Clor Bromagen.
43553-20 | Stop-Mold “F“.
43813-55 | Wocosen T98.
43813-58 | Wocosen T98.
46183-13 | Bioway Bio Actin 20.
47265-3 | Z-11-Tetradecenyl Acetate Technical Pheromone.
48222-7 | Agro-K Copper Lite.
48737-2 | Lurol AG-1000.
49547-5 | Alen Pine Oil 60.
51873-8 | De-Cut.
52252-10 | Bioredox PA Sterilant.
55304-1 | Calcium Hypochlorite 70% Dry Chlorinating Pellets.
56336-51 | Olive Fly Attract and Kill (A&K) Target Device for Commercial Olives.
56336-53 | Olive Fly Attract and Kill (A&K) Target Device for Ornamental Olives.
57538-17 | Stimulate Plus Yield Enhancer.
57538-29 | Fortified Stimulate Yield Enhancer.
57538-36 | Stimulate Fruit Thinner.
57538-37 | Stimulate Grain Filler.
57538-38 | Stimulate Power.
57538-44 | Stimulate Flower Fertility.
57538-45 | Stimulute Bud Former.
57538-46 | Stimulute Seed Germ.
57538-47 | Stimulate Fruit Sizer.
57538-48 | Stimulate Root Growth.
57787-33 | Multi Shock.
58185-13 | Truban Fungicide.
58185-30 | Fungo 50 WSB Wettable Powder Turf & Ornamental Systemic Fungicide.
58185-33 | Domain FL.
58300-21 | Stop Bugging Me! Max.
58300-22 | Stop Bugging Me! House & Garden.
59106-3 | Bioclear 550 Fizzy Tabs.
59894-9 | Kwikkill Disinfecting/deodorizing Spray/solution.
60142-1 | Virahol.
60142-3 | Virahol Hospital Surface Disinfectant Towelette.
61483-1 | Penta 5 Sure Treat Wood Protector Wood Preserver.
61903-1 | Tech Group Bleach & Disinfectant.
62575-5 | Biesterfeld 2,4-D Ester LV.
63191-13 | Insect Dust.
63963-1 | Ethylene.
65345-2 | Basic Copper Carbonate Technical Grade (Wet Cake).
65878-1 | Sulfuric Acid/Potato Vine Desiccant.
67360-14 | Intercide ABF-5 SV.
67360-15 | Intercide ABF-5 SVC.
70385-1 | Microban Disinfectant Spray.
72112-1 | Transom 50 WSB.
72112-3 | Fathom 14.3 MEC.
72138-1 | Real Pine Cleaner Disinfectant Deodorizer.
73176-1 | Nutguard-V/Fruitguard-V.
74655-30 | Generox 750.
74965-3 | Comet Spraygel.
75197-1 | Avachem Sucrose Octanoate (40.0%).
75197-2 | Avachem Sorbitol Octanoate (90%).
75217-1 | Nava Quick Tabs.
79442-14 | Exosex SP Tab.
79442-15 | Exomite-Pro.
80286-21 | DCept CLM.
81045-3 | Baits Motel Stay Awhile-Rest Forever.
82437-1 | K & W Agrochemicals 5-15-5 with Gro-Root Liquid (GRL) Root & Transplant Stimulatory with 2 Hormones.
82437-3 | Kingro RTU (Ready-To-Use).
82437-4 | Rootaid Gel.
82437-6 | Prostim L.
82437-8 | Prostim II.
82571-4 | CSC 80% Thiosperse/thioben.
82760-3 | BCS 3502A.
82760-4 | BCS 3252A.
83451-11 | Bromicide Gel.
83525-1 | Wego Chlor 90.
83525-2 | Wegochlor Tabs.
83525-4 | Wegochlor 56.
83555-1 | Aria Air Sanitizer.
83772-3 | Agsaver Lambda-Cy.
83772-6 | Agsaver Permethrin 3.2EC.
83772-7 | Agsaver Clethodim.
83772-9 | Agsaver Metolachlor.
83772-10 | Agsaver Metolachlor II.
83968-1 | HP PM 70.
83968-2 | HP PM 50.
84214-2 | Ag3+ Fiber 9%.
84517-1 | Brite Bleach.
84526-4 | Sanosil C34.
84526-5 | Sanosil C5.
84545-12 | Steriplex SD RTU.
84890-1 | IO Purge 5065.
84890-2 | PL I-20.
84890-3 | IO Purge 5060.
84890-4 | M-2205 Disinfectant/Sanitizer/Cleaner.
84890-5 | M-2205 20% Iodine Concentrate.
84890-6 | M-2205 Farm Disinfectant/Sanitizer.
85341-2 | Revere Antimicrobial Brass.
85375-1 | Argent 47.
86008-1 | Imazapyr Technical.
86352-3 | Sweep+Bed Bug Killer.
87518-2 | Sorite.
87772-1 | Phicide Sodium Manufacturing Concentrate.
87772-2 | Phicide Sodium (Sodium Pyrithione 41% Aqueous Solution) Industrial Fungicide & Bactericide.
87931-12 | Diflubenzuron Technical.
87994-1 | MBC Soil Fumigant.
88082-1 | Smartguard.
88082-3 | Smart Guard for Cats & Kittens.
88259-3 | Dichlor Shock.
88602-2 | Diflubenzuron Technical.
88633-3 | Copper Sulfate Pentahydrate.
89013-1 | Motiv.
89046-1 | Fpsolano.
89046-2 | Fpsolano Technical.
89883-1 | Oxy Blast 35 Hydrogen Peroxide Solution.
90051-1 | 12.5% Sodium Hypochlorite Solution.
90856-3 | Monofoil Screen/Glass Protectant.
91234-2 | Kylix SC Lawn Care.
91234-3 | Kylix G Lawn Care.
91234-4 | Kylix SC Golf Course Insecticide.
91234-7 | S307.1 Bentazon 4 Herbicide.
CA900001 | Methyl Bromide 100.
ID130011 | Tri-Con 80/20.
IL120002 | Compound DRC-1339 Concentrate-Feedlots.
KS120003 | Compound DRC-1339 Concentrate-Staging Areas.
KY020002 | Compound DRC-1339 Concentrate-Staging Areas.
LA050014 | Sabrechlor 25.
MS020007 | Glyfos Custom Herbicide.
NM030003 | Compound DRC-1339 Concentrate-Staging Areas.
NM980003 | Cobra Herbicide.
NY130004 | Smart Sponge Plus.
TX980006 | Cobra Herbicide.
WA030008 | Rex Lime Sulphur Solution.
WA110008 | HTH Dry Chlorinator Granular.

IV. Summary of Public Comments Received and Agency Response to Comments

During the public comment period provided, EPA received six comments were received in response to the August 3, 2017 Federal Register notice announcing the Agency's receipt of the requests for voluntary cancellations of products listed in Table 1 of Unit III. All six comments were general in nature about non-specific pesticides and EPA's pesticide program and did not merit further review.

V. Cancellation Order

Pursuant to FIFRA section 6(f) (7 U.S.C. 136d(f)), EPA hereby approves the requested cancellations of the registrations identified in Table 1 of Unit III. Accordingly, the Agency hereby orders that the product registrations identified in Table 1 of Unit III. are canceled. The effective date of the cancellations that are the subject of this notice is April 13, 2018. Any distribution, sale, or use of existing stocks of the products identified in Table 1 of Unit III. in a manner inconsistent with any of the provisions for disposition of existing stocks set forth in Unit VII. will be a violation of FIFRA.

VI. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 3, 2017 (82 FR 36138) (FRL-9963-80). The comment period closed on January 30, 2018.

VII. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit III. until the date of publication of this Federal Register notice. Thereafter, the registrants are prohibited from selling or distributing products listed in Table 1, except for export in accordance with FIFRA section 17 (7 U.S.C. 136o), or proper disposal. Persons other than the registrants may sell, distribute, or use existing stocks of products listed in Table 1 of Unit III. until existing stocks are exhausted, provided that such sale, distribution, or use is consistent with the terms of the previously approved labeling on, or that accompanied, the canceled products.

Authority: 7 U.S.C. 136 et seq.

Dated: March 29, 2018.
Delores Barber,
Director, Information Technology and Resources Management Division, Office of Pesticide Programs.

[FR Doc. 2018-07743 Filed 4-12-18; 8:45 am]

BILLING CODE 6560-50-P